ENVIRONMENTAL PROTECTION AGENCY

[FRL-7781-7]

Announcement of the Board of Trustees for the National Environmental Education and Training Foundation, Inc.

Summary: The National Environmental Education and Training Foundation was created by section 10 of Public Law 101-619, the National Environmental Education Act of 1990. It is a private 501(c)(3) non-profit organization established to promote and support education and training as necessary tools to further environmental protection and sustainable, environmentally sound development. It provides the common ground upon which leaders from business and industry, all levels of government, public interest groups, and others can work cooperatively to expand the reach of environmental education and training programs beyond the traditional classroom. The Foundation supports a grant program that promotes innovative environmental education and training programs; it also develops partnerships with government and other organizations to administer projects that promote the development of an environmentally literal public.

The Administrator of the U.S. Environmental Protection Agency, as required by the terms of the Act, announces the following appointment to the National Environmental Education and Training Foundation, Inc. Board of Trustees. The appointee is Guillermo L. Hysaw, Vice President of Cultural Transformation and Corporate Development for Toyota Motor Sales, U.S.A., Inc. This appointee will join the current Board members which include:

• Braden Allenby, Vice President, Environment, Health and Safety, AT&T;

• Richard Bartlett, (NEETF Chairman) Vice Chairman, Mary Kay Holding Corporation;

• Walter Higgins, Chairman, President and C.E.O., Sierra Pacific Resources;

• Dorothy Jacobson, Consultant;

• Karen Bates Kress, President, KBK Consulting, Inc.;

• Dorothy McSweeny (NEETF Vice Chair), Chair, DC Commission on the Arts and Humanities;

• Dwight Minton, Chairman Emeritus, Church and Dwight (Arm&Hammer, Inc.);

• Honorable William Sessions, former Director of the Federal Bureau of Investigation.

Additional Considerations: Great care has been taken to assure that this new appointee not only has the highest degree of expertise and commitment, but also brings to the Board diverse points of view relating to environmental education and training.

This appointment shall be for two consecutive four year terms.

For Further Information Contact: C. Michael Baker, Acting Director, Office of Environmental Education, Office of Public Affairs (1704A) U.S. EPA, 1200 Pennsylvania Ave., NW., Washington, DC 20460, Telephone: (202) 564-0446.

Dated: June 25, 2004.
Michael O. Leavitt,
Administrator.

BIO of New Member:

Guillermo L. Hysaw, Vice President, Cultural Transformation—Corporate Development, Toyota Motor Sales, U.S.A., Inc.

Guillermo L. Hysaw is vice president of cultural transformation and corporate development for Toyota Motor Sales (TMS), U.S.A., Inc.

He is responsible for oversight and direction of the company's diversity strategy, ensuring its implementation and integration into overall business strategy. He also serves as the company's most senior advisor on diversity issues and as the principal liaison with outside organizations.

Hysaw began his career at TMS in 1987 as part of the Lexus Division. Since then he has served as corporate manager of Toyota Certified Used Vehicles, national fleet marketing operations manager, national marketing development manager, marketing development manager, national advertising manager, market representation planning manager, business manager and senior market representation administrator. Most recently, he served as corporate manager of market representation.

Prior to joining Toyota, Hysaw spent 16 years with the General Motors Corp. (GMC) and its Pontiac Division. He held various positions at GMC including zone business manager, corporate remarketing manager, all national sales and marketing manager positions, and all field and staff manager positions.

A native of Bakersfield, Calif., Hysaw earned his bachelor's degree in psychology from Oakland University in Rochester, Mich. He earned a master's degree in marketing as well as an MBA in finance and an advanced MBA in strategic management from Claremont Graduate School in Claremont, Calif. Hysaw has completed three years of his doctorate degree from the Peter F. Drucker Executive Management Program at Claremont Graduate School.

Recognized by the National Eagle Leadership Institute (NELI), Hysaw became an Eagle Award recipient in 2003. He was also selected as a member of the Executive Leadership Council (ELC), an elite group of business leaders.

Hysaw is a past president and lifetime member of the 100 Black Men of Los Angeles, Inc.; lifetime member of the National Black Master's in Business Administration Association, Inc.; lifetime member of the National Association for the Advancement of Colored People and its national committee; lifetime member of Alpha Phi Alpha Fraternity, Inc. and the Beta Psi Lambda Chapter of Los Angeles.

Hysaw resides in Irvine, Calif., with his wife, Kimberly, and daughter, Megan Ashley.

[FR Doc. 04-15347 Filed 7-6-04; 8:45 am]

BILLING CODE 6560-50-P